DEPARTMENT OF JUSTICE

Antitrust Division

Notice Pursuant to the National Cooperative Research and Production Act of 1993—MLCommons Association

Notice is hereby given that, on December 23, 2022, pursuant to Section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, Quanta Computer Inc., Taoyuan City, TAIWAN; Nebuly Societa Benefit S.r.l., Torino, ITALY; Margaret Warren (individual member), Pensacola, FL; SiMa, San Jose, CA; PowerML, Inc., Palo Alto, CA; Xinyuan Huang (individual member), San Jose, CA; Alexander Montgomerie-Corcoran (individual member), London, UNITED KINGDOM; and Aanchan Mohan (individual member), Vancouver, CANADA have been added as parties to this venture.

Also, Cisco Systems, Inc., San Jose, CA; Groq Inc., Mountain View, CA; Shanghai Enflame Technology Co., Ltd., Shanghai, PEOPLE'S REPUBLIC OF CHINA; and Tenska Incorporated, Nicasio, CA have withdrawn as parties to this venture.

No other changes have been made in either the membership or planned activity of the group research project. Membership in this group research project remains open, and MLCommons intends to file additional written notifications disclosing all changes in membership.

On September 15, 2020, MLCommons filed its original notification pursuant to Section 6(a) of the Act. The Department of Justice published a notice in the Federal Register pursuant to Section 6(b) of the Act on September 29, 2020 (85 FR 61032).

The last notification was filed with the Department on October 14, 2022. A notice was published in the Federal Register pursuant to Section 6(b) of the Act on November 8, 2022 (87 FR 67494).

Suzanne Morris,
Deputy Director of Civil Enforcement Operations, Antitrust Division.

[FR Doc. 2023-01367 Filed 1-23-23; 8:45 am]

BILLING CODE 4410-11-P